DEPARTMENT OF COMMERCE

National Oceanic and Atmospheric Administration

RIN 0648-XA918

Council Coordination Committee Meeting

AGENCY: National Marine Fisheries Service (NMFS), National Oceanic and Atmospheric Administration (NOAA), Commerce.

ACTION: Notice of a public meeting.

SUMMARY: NMFS will host a meeting of the Council Coordination Committee (CCC), consisting of the Regional Fishery Management Council chairs, vice chairs, and executive directors in January 2012. The intent of this meeting is to discuss issues of relevance to the Councils, including FY 2012 budget allocations and budget planning for FY2013 and beyond, Marine Recreational Information Program Update, Report on the Allocation of Fishery Resources, Habitat Blueprint, Managing Our Nations III Conference, and other topics related to implementation of the Magnuson-Stevens Fishery Conservation and Management Act (Magnuson-Stevens Act).

DATES: The meeting will begin at 9 a.m. on Wednesday, January 25, 2012, recess at 5:30 p.m. or when business is complete; and reconvene at 9 a.m. on Thursday, January 26, 2012, and adjourn by 5:30 p.m. or when business is complete.

ADDRESSES: The meeting will be held at the Crowne Plaza Hotel, 8777 Georgia Avenue, Silver Spring, MD 20910; telephone: (301) 563-3722, fax: (301) 589-4791.

FOR FURTHER INFORMATION CONTACT: William D. Chappell: telephone: (301) 427-8505 or email at William.Chappell@noaa.gov; or Tara Scott: telephone: (301) 427-8579 or email: Tara.Scott@noaa.gov.

SUPPLEMENTARY INFORMATION: The Magnuson-Stevens Fishery Conservation and Management Reauthorization Act (MSRA) of 2006 established the Council Coordination Committee by amending Section 302 (16 U.S.C. 1852) of the Magnuson-Stevens Act. The committee consists of the chairs, vice chairs, and executive directors of each of the eight Regional Fishery Management Councils authorized by the Magnuson-Stevens Act or other Council members or staff. NMFS will host this meeting and provide reports to the CCC for its information and discussion. All sessions are open to the public.

Proposed Agenda

Wednesday, January 25, 2012

9 a.m.—Morning Session Begins.

9 a.m.-10:30 a.m.—Welcome comments and Council Reports.

10:30 a.m.-10:45 a.m.—Break.

10:45 a.m.-11:30 a.m.—Council Reports (Continued).

12 noon-1:30 p.m.—Lunch.

1:30 p.m.—Afternoon Session Begins.

1:30 p.m.-2:15 p.m.—Budget.

• FY2012: Status, Council funding

• FY2013: Update

• Longer term discussion

3 p.m.-3:15 p.m.—Break.

3:15 p.m.-4:15 p.m.—Marine Recreational Information Program (MRIP) Update.

4:15-5:15 p.m.—Report on Allocation of Fishery Resources.

5:15 p.m.-5:30 p.m.—Wrap up and adjourn for the day.

Thursday, January 26, 2012

9 a.m.—Morning Session Begins.

9 a.m.-9:30 a.m.—Statement of Organization, Practices, and Procedures (SOPPs).

9:30 a.m.-10 a.m.—Update on the National Ocean Council/Coastal and Marine Spatial Planning.

10 a.m.-10:15 a.m.—Break.

10:15 a.m.-11:30 a.m.—Report on 2011 National SSC Workshop.

• Stock Assessment Priority Project

11:30 a.m.-12 noon—Bycatch Reduction Engineering Program (BREP) Question and Answer Session.

12 noon-1:30 p.m.—Lunch.

1:30 p.m.—Afternoon Session Begins.

1:30 p.m.-2:30 p.m.—Habitat Blueprint.

2:30 p.m.-3:30 p.m.—Managing Our Nation's Fisheries (MONF) III Conference.

• Logistics (Date, Location)

• Steering Committee

• Agenda/Theme

• Lead In Workshops

3:30 p.m.-3:45 p.m.—Break.

3:45 p.m.-4:45 p.m.—Outreach and Communication.

• NOAA Fisheries Activities

• 2012 Communication Strategy

• RFMC activities

a. Communication Committee collective efforts

b. Individual Council efforts

4:15 p.m.-4:45 p.m.—Other Business, updates, and next annual CCC Meeting.

4:45 p.m.-5:30 p.m.—Wrap-up.

5:30 p.m.—Adjourn.

The order in which the agenda items are addressed may change. The CCC will meet as late as necessary to complete scheduled business.

Special Accommodations

This meeting is physically accessible to people with disabilities. Requests for sign language interpretation or other auxiliary aids should be directed to Tara Scott at (301) 427-8579 at least 5 working days prior to the meeting.

Dated: January 3, 2012.
Tracey L. Thompson,
Acting Director, Office of Sustainable Fisheries, National Marine Fisheries Service.

[FR Doc. 2012-3 Filed 1-5-12; 8:45 am]

BILLING CODE 3510-22-P